LEGAL SERVICES CORPORATION

Sunshine Act Meeting Notice

Date and Time: The Legal Services Corporation Board of Directors will meet telephonically on November 5, 2010 at 2 p.m., Eastern Time.

Location: The Legal Services Corporation, 3rd Floor Conference Center, 3333 K Street, NW., Washington, DC 20007.

Status of Meeting: Closed.—The meeting of the Board of Directors will be closed to the public pursuant to a vote of the Board of Directors to consider and perhaps act on a Management recommendation related to an employee benefits matter, as well as a proposal regarding a research project. The Board will also receive briefings on an internal employment matter, Management's plans to address reported problems at an LSC grantee, and the status of Management's response to the LSC Inspector General's audit report on the Technology Initiatives Grants (“TIG”) program.¹

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(2),²(4),³ (6),⁴ (7) ⁵ and (9)(B),⁶ and the corresponding provisions of the Legal Services Corporation's implementing regulation, 45 CFR 1622.5(a),(c), (e), (f) and (g), will not be available for public inspection. A copy of the General Counsel's Certification that in his opinion the closing is authorized by law will be available upon request.

² 45 CFR 1622.5(a) protects from disclosure information that relates solely to the internal personnel rules and practices of the agency.

³ 45 CFR 1622.5(c) protects trade secrets and proprietary information from disclosure.

⁴ 45 CFR 1622.5(e) protects information the disclosure of which would constitute a clearly unwarranted invasion of personal privacy.

⁵ 45 CFR 1622.5(f) protects from disclosure investigatory records that might interfere with enforcement proceedings, deprive a person of due process, disclose a confidential source, disclose investigative procedures, or endanger the life and safety of law enforcement personnel.

⁶ 45 CFR 1622.5(g) protects information the premature disclosure of which would in the case of any agency, be likely to significantly frustrate implementation of a proposed agency action.

Matters to be Considered:

Closed Session

1. Approval of agenda.

2. Approval of Minutes of the Board's October 19, 2010 closed session meeting.

3. Briefing on Management's plans for addressing reported problems at one of LSC's grantees.

4. Briefing on status of Management's response to the Inspector General's audit report regarding the Technology Initiatives Grants (“TIG”) program.

5. Consider and act on proposal regarding a research project.

6. Consider and act on a Management recommendation regarding an employee benefits matter.

a. Presentation by Alice Dickerson, Director, Office of Human Resources, and David L. Richardson, Comptroller.

7. Briefing on internal employment matter.

a. Presentation by Linda Mullenbach, Senior Assistant General Counsel, and Alice Dickerson, Director, Office of Human Resources.

8. Consider and act on other business.

9. Consider and act on adjournment of meeting.

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: October 29, 2010.
Patricia D. Batie,
Corporate Secretary.

[FR Doc. 2010-27809 Filed 10-29-10; 4:15 pm]

BILLING CODE 7050-01-P